DEPARTMENT OF JUSTICE

Notice of Lodging of Consent Decree Under Comprehensive Environmental Response, Compensation and Liability Act

In accordance with Departmental policy and 28 CFR 50.7, notice is hereby given that a proposed consent decree in United States v. ExxonMobil Corporation and Green Bluff Development, Inc., Civil Action No. 1:01CV15 (N.D.W.V), was lodged on May 28, 2002 with the United States District Court for the Northern District of West Virginia. The consent decree resolves the United States' claims against defendants ExxonMobil Corporation and Green Bluff Development, Inc. with respect to past response costs incurred through September 30, 1998, in connection with the Fairmont Cokeworks Site (“Site”), located in Marion County, West Virginia. Defendant ExxonMobil is the successor at law to Domestic Coke Corporation (“DCC”), which owned and operated the Site property prior until 1948, and defendant Green Bluff, a wholly-owned subsidiary of ExxonMobil, which took title to the property in 1998.

Under the consent decree, defendants will pay the United States $1,500,00 in reimbursement of past response costs incurred in connection with the Site. Said amount will be paid within thirty (30) days after entry of the consent decree by the Court.

The Department of Justice will receive, for a period of thirty (30) days from the date of this publication, comments relating to the proposed consent decree. Comments should be addressed to Thomas L. Sansonetti, Assistance Attorney General for the Environment and Natural Resources Division, Department of Justice, Washington, D.C. 20530, and should refer to United States v. ExxonMobil Corp. and Green Bluff Dev., Inc., DOJ Reference No. 90-11-3-06663.

The proposed consent decree may be examined at the Office of the United States Attorney, 1100 Main Street, Suite 200, Wheeling, West Virginia, 26003-0011; and the Region III Office of the Environmental Protection Agency, 1650 Arch Street, Philadelphia, Pennsylvania. A copy of the proposed decree may be obtained by mail from the Department of Justice Consent Decree Library, P.O. Box 7611, Washington, DC 20044-7611. In requesting a copy, please refer to the referenced case and enclose a check in the amount of $6.25 (25 cents per page production costs), payable to the Consent Decree Library.

Robert D. Brook,
Assistant Chief, Environmental Enforcement Section, environment and Natural Resources Division.

[FR Doc. 02-14848 Filed 6-12-02; 8:45 am]

BILLING CODE 4410-15-M